DEPARTMENT OF COMMERCE

National Oceanic and Atmospheric Administration

50 CFR Part 217

[Docket No. 250623-0106]

RIN 0648-BN36

Takes of Marine Mammals Incidental to Specified Activities; Taking Marine Mammals Incidental to Rocky Intertidal Monitoring Surveys Along the Oregon and California Coasts

Correction

In rule document 2025-11748 beginning on page 27245 in the issue of Thursday, June 26, 2025, make the following correction:

Subpart K—Corrected

On page 27252, in the second column, in the first and second lines,

2. Revise and republish subpart K to part 217 to read as follows:

should read:

2. Add subpart K to part 217 to read as follows:

[FR Doc. C1-2025-11748 Filed 7-8-25; 8:45 am]

BILLING CODE 0099-10-D